CORPORATION FOR NATIONAL AND COMMUNITY SERVICE

Funding Opportunity for a National Provider of Training and Technical Assistance to Corporation for National and Community Service Programs Using Service and Volunteers to Support Homeland Security

AGENCY: Corporation for National and Community Service.

ACTION: Notice of funding opportunity.

SUMMARY: Subject to the availability of appropriations, the Corporation for National and Community Service (hereinafter the “Corporation”) intends to award approximately $600,000 to support one or more organizations in partnership selected under this Notice to provide training and technical assistance to national and community service programs engaged in homeland security activities focusing on public safety, public health, and disaster preparedness and relief. The organization(s) selected will, for each homeland security focus area: identify and maintain a network of geographically dispersed expert resource people and organizations around the country and create a mechanism for sharing these resources with local programs in need of assistance; provide training and technical assistance materials; and gather and provide critical information to Corporation programs and projects engaged in homeland security activities.

The Corporation intends to enter into a cooperative agreement of up to three years, beginning on or about December 1, 2002. The funding opportunity announced under this Notice will support the initial phase of the agreement (generally the first year's budget), with additional funding contingent upon need, quality of service, the nature and scope of activities to be supported, and availability of appropriations for this purpose.

Note: This is a notice for selection of an organization or organizations to provide training and technical assistance to national and community service grantees. This is not a notice for program grant proposals.

DATES: Proposals must be received by 5 p.m. Eastern Standard time, on November 4, 2002.

The Corporation anticipates making an award under this announcement in December, 2002. The Corporation will not accept applications that are submitted by facsimile. Due to delays in delivery of regular U.S.P.S. mail to government offices, your application may not arrive in time to be considered. We suggest that you use U.S.P.S. priority mail or a commercial overnight delivery service.

ADDRESSES: Submit proposals to the Corporation for National and Community Service, Attention: Ms. Cathy Harrison, Room 9704A, 1201 New York Avenue, NW., Washington, DC 20525.

FOR FURTHER INFORMATION CONTACT: Gina Fulbright-Powell or Wade Gatling at the Corporation for National and Community Service, (202) 606-5000, ext. 414; e-mail gfulbrig@cns.gov or wgatling@cns.gov. The TTY number is (202) 565-2799. This Notice is available on the Corporation's Web site: http://www.nationalservice.org/whatshot/notices. Upon request, this information will be made available in alternate formats for people with disabilities.

SUPPLEMENTARY INFORMATION

I. Background

The Corporation is a federal government corporation that encourages Americans of all ages and backgrounds to engage in national and community service to meet the nation's educational, public safety, environmental, and other human needs and to achieve direct and demonstrable results. In doing so, the Corporation fosters civic responsibility, strengthens the ties that bind us together as a people, and provides educational opportunity for those who make a substantial commitment to service. For more information about the Corporation and the activities it supports go to http://www.nationalservice.org.

On November 8, 2001, President Bush announced that the Corporation will support homeland security in the coming year in three major areas: public safety, public health, and disaster preparedness and relief. Through the award of $10.3 million in grants to 43 private groups and public agencies in 26 states and the District of Columbia, the Corporation is mobilizing more than 37,000 homeland security volunteers across the nation to support these efforts. The President said:

* * * Many ask, “What can I do to help in our fight?” The answer is simple. All of us can become a September the 11th volunteer by making a commitment to service in our own communities. So you can serve your country by tutoring or mentoring a child, comforting the afflicted, housing those in need of shelter and a home.

* * * You can participate in your neighborhood watch or Crimestoppers. You can become a volunteer in a hospital, emergency medical, fire or rescue unit. You can support our troops in the field and, just as importantly, support their families here at home by becoming active in the USO or groups in communities near our military installations.

* * * We also will encourage service to country by creating new opportunities within the AmeriCorps and Senior Corps programs for public safety and public health efforts.

The Corporation's support for homeland security includes:

Public Safety. Public safety is one of the four primary service activities for AmeriCorps, Senior Corps, and Learn and Serve America. Thousands of volunteers serve with police departments and land management agencies. The volunteers are not armed and cannot make arrests, but they do carry out vital tasks including organizing neighborhood watch groups and helping with community policing, victim assistance, fingerprinting, and other tasks that free officers and other professionals to do front-line work. In five years, AmeriCorps has organized 46,000 safety patrols, and last year alone senior volunteers carried out 131,000 patrols that freed up 540,000 hours of police time.

Public Health. AmeriCorps members and Senior Corps volunteers provide a variety of public health roles including assisting in immunizing children and adults, serving as case managers, distributing health information, and providing health screenings. Last year, AmeriCorps members distributed health information materials to 500,000 people and provided health screenings to 181,000 individuals, while Senior Corps volunteers assisted in assuring that 270,000 children and adults were immunized.

Disaster Preparedness and Relief. AmeriCorps members, including National Civilian Community Corps and Senior Corps volunteers, have a long record of working with the Federal Emergency Management Agency and other relief agencies in helping communities respond to disasters. Learn and Serve America students respond to local disasters as well. National and community service participants help run emergency shelters, assist law enforcement, provide food and shelter, manage donations, assess and repair damage, and help families and communities rebuild. Since September 11th , many Corporation-supported volunteers have been actively engaged in relief efforts.

The Corporation is permitting organizations that it funds to redirect their activities to support homeland security. The Corporation also made homeland security a priority for new grants awarded in fiscal year 2002. The training and technical assistance (T/TA) Provider will work to assist new grantees and projects with program start-up, and to help existing grantees improve services associated with homeland security.

II. Conditions

A. Legal Authority

Section 198 of the National and Community Service Act of 1990, as amended, 42 U.S.C. 12653, authorizes the Corporation to provide, directly or through contracts or cooperative agreements, training and technical assistance in support of activities under the national service laws. Section 125 of that Act and titles I and II of the Domestic Volunteer Service Act provide additional authority.

B. Cooperative Agreement

An award made under this Notice will be in the form of a cooperative agreement. Cooperative agreements are subject to Corporation regulations or general administrative requirements: 45 CFR part 2541 (for agreements with State and local government agencies) and 45 CFR part 2543 (for agreements with institutions of higher education, non-profit organizations, and commercial entities). The Provider must comply with reporting requirements, including submitting semi-annual financial reports and progress reports linking progress on deliverables to expenditures.

Cooperative agreements require substantial involvement on the part of the Corporation. Substantial involvement includes frequent and regular communication with and monitoring by the Corporation's cognizant training officer (COTR). The COTR will confer with the Provider on a regular basis to review project status and service delivery, including work plans, budgets, periodic reports, materials developed, preparation for and implementation of training events, targeting of the Provider's services, and assessment of the Provider's effectiveness.

C. Time Frame

The Corporation expects that activities assisted under the agreement awarded through this Notice will commence on or about December 1, 2002, following the conclusion of the selection and award process.

The Corporation will make an award covering a period not to exceed three years. Applications must include a detailed work plan of proposed activities and a line-item budget for year one of the agreement, and note projected changes to proposed activities for years two and three of the award period. If the Corporation approves an application and enters into a multiyear award agreement, funding will be provided for the first year only. Funding for the second and third years of an award period is contingent upon need, quality of service, the nature and scope of activities to be supported, and availability of appropriations for the purpose of the award. The Corporation has no obligation to provide additional funding in subsequent years.

D. Use of Materials

To ensure that materials generated with Corporation funding for training and technical assistance purposes are available to the public and readily accessible to grantees and sub-grantees, the Corporation reserves a royalty-free, non-exclusive, and irrevocable right to obtain, use, reproduce, publish, or disseminate publications and materials produced under the agreement, including data, and to authorize others to do so. The Provider must agree to make such publications and materials available to the national service field, as identified by the Corporation, at no cost or at the cost of reproduction. All materials developed for the Corporation must be consistent with Corporation editorial and publication guidelines and must be accessible to individuals with disabilities to the extent required by law.

III. Eligibility

State and local government entities, non-profit organizations, institutions of higher education, Indian tribes, and commercial entities are eligible to apply. Pursuant to the Lobbying Disclosure Act of 1995, an organization described in section 501(c)(4) of the Internal Revenue Code of 1986, 26 U.S C. 501(c)(4), which engages in lobbying is not eligible to apply. Organizations that operate or intend to operate Corporation-supported programs are eligible.

The Corporation anticipates making a single award to support all homeland security T/TA activities, and will therefore consider proposals from single applicants. However, when prospective applicants have expertise in only one or two of the three homeland security areas, the Corporation will consider proposals from principal applicants who, acting in partnership with other applicants, can provide the required services.

Organizations may apply to provide training and technical assistance in partnership with organizations seeking other Corporation funds. Based on previous training and technical assistance competitions and our estimate of potential applicants, we expect fewer than ten applications to be submitted.

IV. Scope of Training and Technical Assistance Requirements

The provider selected under this Notice will provide training and technical assistance services, and develop and disseminate training curricula and materials to support Corporation programs and projects engaged in homeland security.

A. Training and Technical Assistance Tasks

The Corporation expects the Provider to accomplish the tasks below:

a. Identify and maintain a network of geographically dispersed expert resource people and organizations around the country and create a mechanism for sharing these resources with local programs in need of assistance in achieving their homeland security objectives. The provider will identify expert resources—organizations and individuals—that can work in partnership with local programs and projects to build the capacity of staff to achieve their homeland security objectives. Among the potential sources of such expertise are Citizen Corps Councils, which are the components of the President's USA Freedom Corps that create opportunities for volunteers to help their communities prepare for and respond to emergencies. Others are the National Voluntary Organizations Active in Disaster, university-based experts, and first-responder volunteer fire departments. Applicants are encouraged to demonstrate their familiarity with and connection to such entities across the country. The Provider will not train members or volunteers, but may develop training materials for members and volunteers and local provider organizations. They may train local staff on the use of these materials. The Corporation's Web site and the services of the National Service Resource Center and National Service Learning Clearinghouse will form part of the strategy for sharing knowledge about these resources with local programs in need of assistance. The Provider will train resource people as needed to ensure that they understand the Corporation and its programs. The Provider will also gather information from national service grantees regarding known resource personnel in areas of homeland security.

b. Identify characteristics of successful homeland security service and volunteer programs, based on research and input from grantees and programs in the field, and develop a menu of training and technical assistance resources and materials linked to those characteristics and designed to support programs in achieving them. To respond to this notice, applicants need to demonstrate the capacity to design training curricula and materials and make them available to local programs and projects through a variety of methods including e-learning, train-the-trainer models, peer assistance through listservs, and in-person training sessions using locally identified resource persons. Training and technical assistance materials are usually disseminated through the National Service Resource Center and individual providers. The Corporation emphasizes developing Web-based materials as opposed to printing quantities of hardcopy documents.

c. Gather and provide critical information to Corporation programs and projects engaged in homeland security activities. The Provider will identify important literature and other information resources on public safety, public health, and disaster preparedness and relief. This might include effective practices in community volunteering and service as strategies for addressing homeland security issues, and information on project planning and member/volunteer development. The information will be catalogued and made available to grantees through a variety of methods including listservs, online publications, print materials, the Corporation's database of effective program practices, the National Service Resource Center, and the National Service-Learning Clearinghouse.

B. Training and Technical Assistance Requirements

1. Performance Measurement and Accountability

The Corporation is committed to accountability and the measuring of performance for all its grantees, including training and technical assistance providers. The Provider must develop effective systems to identify the critical outcomes of its work, indicators of its success in this work, and how these can be judged or measured. The Corporation needs tangible information documenting the effectiveness and outcomes of the Provider's work.

In its proposal, the applicant must demonstrate its understanding of accountability in grant-funded programs and its experience in and plans for identifying and reporting on the significant outcomes of its work with programs. Specific performance measures and reporting guidelines will be finalized between the Corporation and the awardee at the time of the award negotiation, based on the Corporation's FY 2003 Administrative Guidance.

The Provider will develop a plan to assess the impact of its services for clients. The assessment must be ongoing and must be used to inform program planning. It must also encompass immediate as well as long term training impact. The Provider must submit evaluation summaries, and records of evaluations must be available for review.

The Corporation may also require an independent assessment of the Provider's performance.

2. Reporting Requirements

The Provider is responsible for submitting timely progress and financial reports to the Corporation during and after the award period as follows:

(a) Semi-annual Progress Reports. Progress reports must be submitted semi-annually for each budget period during the cooperative agreement. The Provider must submit this information electronically. At a minimum, progress reports must provide the information below:

(1) A comparison of accomplishments with the goals and objectives for the reporting period;

(2) An annotated version of the approved budget that compares actual costs with budgeted costs by line item, and explains differences. The explanation should include, as appropriate, an analysis of cost overruns and high-cost units and a description of service requests not anticipated in the Provider's original budget;

(3) A description of the services provided to include:

(i) Number of requests received by topic area and program type (AmeriCorps, Learn & Serve, Senior Corps);

(ii) Activity conducted to address each request (e.g., training, on-site technical assistance, phone consultation and other electronic communication, and materials development and shipment) and mode of delivery (e.g., staff member, consultant, peer and/or other Provider);

(iii) Number of participants at each training and technical assistance event;

(iv) Client feedback on the services rendered (including the aggregate evaluation of each training event); and

(v) Problems encountered in delivering services with recommendations for correcting them.

(vi) List of upcoming activities and events with dates and locations;

(vii) Recommended training and technical assistance focus areas as suggested by analyses of service activities and trends;

(viii) Discussion of developments that hindered, or may hinder, compliance with the cooperative agreement;

(ix) List of materials submitted to the National Service Resource Center and National Service-Learning Clearinghouse;

(x) List of practices and supporting documentation or materials submitted to EpiCenter.

(b) Financial Reports

Financial reports must be submitted semi-annually and must include a summary of expenditures for the period. The reports are cumulative and must be submitted on the Financial Status Report (FSR) form SF 269A.

(c) Final Reports. (1) Providers completing the final year of their agreement must submit, in lieu of the last semi-annual progress report, a final progress report that is cumulative over the entire award period. The final progress report is due 90 days after the end of the agreement.

(2) Providers completing the final year of their award must submit, in lieu of the last semi-annual FSR, a final FSR that is cumulative over the entire award period. The final FSR is due 90 days after the end of the agreement and must be submitted to the Office of Grants Management.

(d) Other Reports. The Provider must meet as necessary with the cognizant training officer or other staff or consultants designated by the cognizant training officer to exchange views, ideas, and information concerning training and technical assistance. The Provider must submit such special reports as may be reasonably requested by the Corporation.

3. Accessibility to Persons With Disabilities

Ensure that all training and technical assistance resources including Web sites are accessible to persons with disabilities, as required by law, by doing the following:

(a) Notifying potential participants that reasonable accommodations will be provided upon request;

(b) Providing reasonable accommodations when requested to do so, to include sign language interpreters, special assistance, and documents in alternate formats;

(c) Using accessible locations for training events;

(d) Using accessible technology, captioning videos, avoiding non-voice-over formats, and when indicating a telephone number, including a non-voice telephone alternative such as TTY or e-mail;

4. Other Requirements

The Provider must:

(a) Ensure that Provider staff and consultants are fully versed in the background, objectives, and approaches of the Corporation and each of its programs.

(b) Participate in the planning and implementation of national Provider meetings and training events as requested by the Corporation.

(c) Collaborate in materials development and training events organized by other providers or the Corporation, as requested.

(d) Share effective practices with other providers through the training and technical assistance listserv, the EpiCenter, and other mechanisms such as the National Service-Learning Clearinghouse and the National Service Resource Center.

(e) Use technology creatively and effectively as a cost-effective strategy for reaching large numbers of grantees, subgrantees, and others related to national service programs.

V. Application Guidelines

A. Proposal Content and Submission

Applicants must submit one unbound, original proposal and two bound copies. Proposals may not be submitted by facsimile. Proposals must include the following components and should not exceed 50 pages:

1. Cover Page

The cover page must include the name, address, phone number, fax number, e-mail address of the contact person, and World Wide Web site URL (if available) of the applicant organization; a 250-500 word summary of proposed training and technical assistance activities; and the total funding amount requested for the first year.

2. List of Activities and Materials

A one-to-two page list of all proposed training and technical assistance activities and materials.

3. Training and Technical Assistance Delivery Plan

A bulleted narrative of no more than 20 double-spaced, single-sided, typed pages in no smaller than 12-point font that includes:

(a) The applicant's proposed first-year strategy and rationale for providing training and technical assistance to national and community service programs, with proposed changes (if any) for years two and three. The applicant should use the specific deliverables and requirements outlined in Section IV of this Notice as a starting point for a plan, and should present these deliverables in a way that creatively reflects the applicant's areas of expertise and knowledge of national service audiences. It is not appropriate to simply re-list the tasks stated in this Notice.

(b) Information on proposed needs assessment process.

(c) A description of each proposed training and technical assistance activity, product, or event: type, number, frequency, audience, estimated audience size, skill level, and desired learning outcomes.

(d) A detailed one-year work plan and timeline for completing all training and technical assistance activities. The work plan will include all deliverables and the tasks leading to them.

(e) A plan for regularly evaluating performance and using findings for continuous improvement.

4. Training Course Outline and Description

A 250-500 word description for one face-to-face training course in a content area relevant to the homeland security. The face-to-face course should be considered part of a two-day event for 50-75 national service program or project directors. Applicant should submit a session description that includes desired learning outcomes and an outline of session content and the activities that will accomplish the desired outcomes.

5. Technology Strategy

A one-page description of how the applicant proposes to use technology to extend the reach of the training and technical assistance delivered. Description should include the target audience, proposed use of technology, rationale for approach, and concepts and skills to be delivered.

6. Organizational Capacity

(a) A narrative of no more than three double-spaced, single-sided, typed pages in no smaller than 12-point font which describes:

(1) The organization's capacity to provide training and technical assistance services nationwide and recent work similar to that being proposed;

(2) The organization's knowledge of and/or experience with national service programs;

(3) Names and contact information of three to five references that can comment on the work described above.

(4) A list of proposed staff with their areas of expertise (Note: key staff will be subject to Corporation approval) and resumes of the individuals who will be primarily responsible for the proposed deliverables with their relevant experience highlighted (up to 10 pages of one-sided resumes will be accepted).

(5) An organizational chart that shows the relationship of the training and technical assistance service Provider (including partners, if any) to the overall structure of the legal applicant to this Notice.

7. Budget

A detailed, line-item budget with costs organized by personnel, task and sub-task that lead to the deliverables as outlined in the proposal narrative and work plan. Costs in proposed budgets must consist solely of costs allowable under applicable cost principles found in OMB Circulars (OMB Circular A-87 for state and local governments, A-121 for non-profit organizations, A-21 for institutions of higher education) and in F.A.R. part 31 for commercial entities.

Applicants should be mindful that a demonstrated commitment to providing services in the most cost-effective manner possible will be a major consideration in the evaluation of proposals. Provider match is not required. The budget should include:

(a) Proposed staff and expert-consultant hours and pay rates by task and sub-task (include daily maximums for consultants);

(b) Types and quantities of other direct costs being proposed by task and subtask (for example, amounts of travel and volume of other task-related resources, such as communications, postage, etc.).

8. Budget Narrative

Provide a budget narrative that corresponds with all items in the line-item budget and that includes an explanation of all cost estimates that appear in the line-item budget. The narrative should clearly show how each cost was derived, using equations to reflect all factors considered.

B. Selection Criteria

To ensure fairness to all applicants, the Corporation reserves the right to take remedial action, up to and including disqualification, in the event a proposal fails to comply with the requirements related to page limits, line spacing, and font size. The Corporation will assess applications based on the criteria listed below.

1. Quality (35%)

The Corporation will consider the quality of the proposed activities based on the soundness of the strategy to carry them out; on the relevance, effectiveness and creativity of the approach and workplan; and on the applicant's demonstrated knowledge of adult learning and experience in training adults.

2. Organizational Capacity and Personnel (35%)

The Corporation will consider the capacity of the applicant to deliver the proposed services based on:

(a) Evidence of the organization's experience and that of its proposed staff and consultants in delivering high-quality adult training and technical assistance in the category under consideration and their experience in using technology as a teaching tool.

(b) Demonstrated ability to manage a federal grant or apply sound fiscal management principles to grants as evidenced by an annotated list of the applicant's previous grants experience (include agency, time frame, grant size, and subject area).

(c) Demonstrated ability to provide training and technical assistance services nationwide as evidenced by the proposed technology plan and staffing and by previous experience.

(d) Demonstrated ability of staff and consultants to conduct the proposed activities as evidenced by their education and similar past experiences.

(e) Demonstrated knowledge of staff and consultants in content areas related to this agreement (public safety, public health, and disaster preparedness and relief) as well as in training design and methodologies.

3. Performance Measurement and Accountability (15%)

The Corporation will consider how the applicant:

(a) Proposes to measure the need for and outcomes of their products and services.

(b) Plans to collect data and use assessments to modify and improve their products and services.

4. Budget (15%)

The Corporation will consider the budget based on:

(a) Cost-effectiveness of the proposed training and technical assistance activities in relation to the scope of the services proposed (i.e., the number of participants and proposed activities); and

(b) The clarity and thoroughness of the budget and budget narrative (see specifications under “Budget Narrative”).

VI. Glossary of Terms

Grantees

Entities funded directly by the Corporation. These may include: state commissions on national and community service, national non-profit organizations, Indian tribes, and entities in states or U.S. Territories that do not have a state commission.

Sub-grantees

Organizations receiving funds from Grantees of the Corporation.

National Service Resource Center (NSRC)

The National Service Resource Center (NSRC) serves as a repository of information on all aspects of national service. The NSRC manages most of the Corporation's listservs and maintains and operates a library of print and media materials related to service and a toll-free information and referral service. Training and technical assistance publications are posted or distributed by the NSRC and its Web site at www.etr.org;/nsrc, includes a calendar of training events and links to all current providers.

National Service-Learning Clearinghouse

National Service-Learning Clearinghouse serves as the primary resource on service-learning for Learn and Serve America grantees in higher education, K-12, community-based organizations and tribes, as well as the entire service-learning community. Its resources include a Web site (http://www.servicelearning.org), a library collection, reference and referral, Learn and Serve America project directory, listservs, and expert technical support. CFDA No. 94.009 Training and Technical Assistance

Dated: August 29, 2002.
Gretchen Van der Veer,
Director, Office of Leadership Development and Training.

[FR Doc. 02-22562 Filed 9-4-02; 8:45 am]

BILLING CODE 6050-$$-P